DEPARTMENT OF TRANSPORTATION

Federal Aviation Administration

14 CFR Part 71

[Docket No. FAA-2011-0010; Airspace Docket No. 11-AAL-1]

RIN 2120-AA66

Proposed Amendment of Federal Airways; Alaska

AGENCY: Federal Aviation Administration (FAA), DOT.

ACTION: Notice of proposed rulemaking (NPRM).

SUMMARY: This action proposes to revise all Anchorage, AK, Federal airways that are affected by the relocation of the Anchorage VHF Omnidirectional Range (VOR) navigation aid. This action is necessary for the safety and management of Instrument Flight Rules (IFR) within the National Airspace System.

DATES: Comments must be received on or before April 18, 2011.

ADDRESSES: Send comments on this proposal to the U.S. Department of Transportation, Docket Operations, M-30, 1200 New Jersey Avenue, SE., West Building Ground Floor, Room W12-140, Washington, DC 20590-0001; telephone: (202) 366-9826. You must identify FAA Docket No. FAA-2011-0010 and Airspace Docket No. 11-AAL-1 at the beginning of your comments. You may also submit comments through the Internet at http://www.regulations.gov.

FOR FURTHER INFORMATION CONTACT: Ken McElroy, Airspace, Regulation and ATC Procedures Group, Office of Airspace Services, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2011-0010 and Airspace Docket No. 11-AAL-1) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2011-0010 and Airspace Docket No. 11-AAL-1.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov. Recently published rulemaking documents can also be accessed through the FAA's web page at http://www.faa.gov/air_traffic/publications/airspace_amendments/.

You may review the public docket containing the proposal, any comments received and any final disposition in person in the Dockets Office (see ADDRESSES section for address and phone number) between 9 a.m. and 5 p.m., Monday through Friday, except Federal holidays. An informal docket may also be examined during normal business hours at the office of the Alaskan Service Center, Operations Support Group, Federal Aviation Administration, 222 West 7th Avenue, Box 14, Anchorage, AK 99513.

Persons interested in being placed on a mailing list for future NPRMs should contact the FAA's Office of Rulemaking, (202) 267-9677, for a copy of Advisory Circular No. 11-2A, Notice of Proposed Rulemaking Distribution System, which describes the application procedure.

Background

The Anchorage VOR, located on Fire Island, is one of the navigation aids used to form points along numerous Federal airways in Alaska. Due to construction of wind turbines on Fire Island, AK, the Anchorage VOR is being relocated to Ted Stevens Anchorage International Airport and renamed. In addition, the equipment is being upgraded to a DOPPLER VOR/distance measuring equipment (VOR/DME) facility that would improve coverage and reliability. Due to the relocation, the published radials from the old Anchorage VOR/DME, as used in each route description, will change by several degrees.

The Proposal

The FAA is proposing an amendment to Title 14 Code of Federal Regulations (14 CFR) part 71 to amend Federal airways that currently use the Anchorage (ANC) VOR located on Fire Island, AK. The ANC VOR is being upgraded to a Doppler VOR and redesignated as the Anchorage (TED) VOR. The Doppler VOR will be located on the Ted Stevens Anchorage International Airport property. This action would affect 15 Low Altitude Federal airways (Victor Airways and T-Routes), and 14 High Altitude Federal airways (Jet Routes and Q-Routes). In addition to these airways using the TED VOR as the new reference point, the descriptions would be adjusted, where necessary, to show new radials to describe airway intersections.

VOR Federal airways, United States Area Navigation Routes (low), Jet Routes, Alaska Area Navigation Routes, and United States Area Navigation Routes (high), are published in paragraphs 6010, 6011, 2004, 2005, and 2006, respectively, of FAA Order 7400.9U, dated August 18, 2010 and effective September 15, 2010, which is incorporated by reference in 14 CFR 71.1. The Federal Airways listed in this document will be published subsequently in the Order.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, section 106 describes the authority of the FAA Administrator. Subtitle VII, Aviation Programs, describes in more detail the scope of the agency's authority.

This rulemaking is promulgated under the authority described in subtitle VII, part A, subpart I, section 40103. Under that section, the FAA is charged with prescribing regulations to assign the use of the airspace necessary to ensure the safety of aircraft and the efficient use of airspace. This regulation is within the scope of that authority as it amends Federal airways in Alaska.

Environmental Review

This proposal will be subject to an environmental analysis in accordance with FAA Order 1050.1E, “Environmental Impacts: Policies and Procedures,” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9U, Airspace Designations and Reporting Points, dated August 27, 2010, and effective September 15, 2010, is amended as follows:

Paragraph 6010 VOR Federal airways.

* * * * *

V-319 [Amended]

From Yakutat, AK, via Johnstone Point, AK, INT Johnstone Point 291°(T)/264°(M) and Anchorage, AK, 125°(T)/106°(M) radials; Anchorage, AK; Sparrevohn, AK; Bethel, AK; Hooper Bay, AK; to Nanwak, AK, NDB.

V-320 [Amended]

From Anchorage, AK, INT Anchorage 133°(T)/114°(M) and Johnstone Point, AK, 271°(T)/244°(M) radials; to Johnstone Point.

* * * * *

V-388 [Amended]

From Anchorage, AK, to INT Anchorage 208°(T)/189°(M) and Kenai, AK, 067° (T)/048°(M) Kenai, AK.

* * * * *

V-427 [Amended]

From King Salmon, AK, to INT King Salmon 042°(T)/026°(M) and Anchorage, AK, 247°(T)/228°(M) radials.

* * * * *

V-436 [Amended]

From Anchorage, AK, via INT Anchorage 335°(T)/316°(M) and Talkeetna, AK, 195°(T)/176°(M) radials; Talkeetna; Nenana, AK; Chandalar Lake, AK, NDB; to Deadhorse, AK.

* * * * *

V-438 [Amended]

From Kodiak, AK, via Homer, AK; Anchorage, AK; Big Lake, AK; Fairbanks, AK; Fort Yukon, AK; Deadhorse, AK; to Barrow, AK.

* * * * *

V-440 [Amended]

From Nome, AK, via Unalakleet, AK; to McGrath, AK; Anchorage, AK; Middleton Island, AK; Yakutat, AK; Biorka Island, AK; to Sandspit, BC. To Victoria, BC, Canada. The airspace within Canada is excluded.

V-441 [Amended]

From Middleton Island, AK, via the INT of Middleton Island, AK 298°(T)/277°(M) and Anchorage 171°(T)/152°(M) radials to Anchorage, AK.

* * * * *

V-462 [Amended]

From Cape Newenham, AK, NDB via Dillingham, AK; to INT Dillingham 059° (T)/044°(M) and Anchorage, AK 247°(T)/228°(M) radials to Anchorage, AK.

* * * * *

V-510 [Amended]

From Emmonak, AK via Anvik, AK, NDB; McGrath, AK, INT McGrath 121°(T)/102°(M) and Big Lake, AK 294°(T)/269°(M) radials; Big Lake.

* * * * *

Paragraph 6011 United States Area Navigation Routes (T-Routes).

* * * * *

T-223 EHM to TED [Amended]

EHM NDB/DME

(Lat. 58°39′24″ N., long. 162°04′17″ W.)

DLG VOR/DME

(Lat. 58°59′39″ N., long. 158°33′08″ W.)

NONDA Fix

(Lat. 60°19′16″ N., long. 153°47′58″ W.)

TED VOR/DME

(Lat. 61°10′04″ N., long. 149°57′37″ W.)

* * * * *

T-227 SYA to SCC [Amended]

SYA VORTAC

(Lat. 52°43′06″ N., long. 174°03′44″ E.)

JANNT WP

(Lat. 52°04′18″ N., long. 178°15′37″ W.)

BAERE WP

(Lat. 52°12′12″ N., long. 176°08′09″ W.)

ALEUT Fix

(Lat. 54°14′17″ N., long. 166°32′52″ W.)

MORDI Fix

(Lat. 54°52′50″ N., long. 165°03′15″ W.)

GENFU Fix

(Lat. 55°23′18″ N., long. 163°06′21″ W.)

BINAL Fix

(Lat. 55°46′00″ N., long. 161°59′56″ W.)

PDN NDB/DME

(Lat. 56°57′15″ N., long. 158°38′51″ W.)

BATTY Fix

(Lat. 59°03′57″ N., long. 155°04′42″ W.)

AMOTT Fix

(Lat. 60°52′27″ N., long. 151°22′24″ W.)

BGQ VORTAC

(Lat. 61°34′10″ N., long. 149°58′02″ W.)

FAI VORTAC

(Lat. 64°48′00″ N., long. 148°00′43″ W.)

SCC VOR/DME

(Lat. 70°11′57″ N., long. 148°24′58″ W.)

* * * * *

T-244 OME to TED [Amended]

OME VOR/DME

(Lat. 64°29′06″ N., long. 165°15′11″ W.)

TED VOR/DME

(Lat. 61°10′04″ N., long. 149°57′37″ W.)

* * * * *

T-246 BRW to TED [Amended]

BRW VOR/DME

(Lat. 71°16′24″ N., long. 156°47′17″ W.)

GAL VOR/DME

(Lat. 64°44′17″ N., long. 156°46′38″ W.)

MCG VORTAC

(Lat. 62°57′04″ N., long. 155°36′41″ W.)

TED VOR/DME

(Lat. 61°10′04″ N., long. 149°57′37″ W.)

* * * * *

T-269 ANN to BET [Amended]

ANN VOR/DME

(Lat. 55°03′37″ N., long. 131°34′42″ W.)

BKA VORTAC

(Lat. 56°51′34″ N., long. 135°33′05″ W.)

YAK VOR/DME

(Lat. 59°30′39″ N., long. 139°38′53″ W.)

JOH VOR/DME

(Lat. 60°28′51″ N., long. 146°35′58″ W.)

TED VOR/DME

(Lat. 61°10′04″ N., long. 149°57′37″ W.)

SQA VOR/DME

(Lat. 61°05′55″ N., long. 155°38′04″ W.)

BET VORTAC

(Lat. 60°47′05″ N., long. 161°49′28″ W.)

* * * * *

Paragraph 2004 Jet routes.

* * * * *

J-115 [Amended]

From Shemya, AK, NDB; Mount Moffett, AK, NDB; Dutch Harbor, AK, NDB; Cold Bay, AK; King Salmon, AK; INT King Salmon 053°(T)/037°(M) and Kenai, AK, 239°(T)/220°(M) radials; Kenai; Anchorage, AK; Big Lake, AK; Fairbanks, AK; Chandalar, AK, NDB; to Deadhorse, AK.

* * * * *

J-124 [Amended]

From Big Lake, AK, via Gulkana, AK; to Northway, AK.

J-125 [Amended]

From Kodiak, AK, via Anchorage, AK; INT Anchorage 335°(T)/316°(M) and Talkeetna, AK, 195°(T)/176°(M) radials; Talkeetna; to Nenana, AK.

* * * * *

J-127 [Amended]

From King Salmon, AK; to INT King Salmon 042°(T)/026°(M) and Anchorage, AK, 247°(T)/228°(M) radials.

* * * * *

J-133 [Amended]

From Galena, AK, via Anchorage, AK; Johnstone Point, AK; Orca Bay, AK NDB; via INT Orca Bay NDB 114°(T)/091°(M) and Sitka, AK NDB 308°(T)/285°(M) bearings, to Sitka, AK NDB.

* * * * *

J-511 [Amended]

From Dillingham, AK; via INT Dillingham 059°(T)/044°(M) and Anchorage, AK 247°(T)/228(M) radials, to Anchorage, AK; Gulkana, AK; to Burwash Landing, YT, Canada, NDB, excluding the portion which lies over Canadian territory.

* * * * *

Paragraph 2005 Alaska Area Navigation Routes.

* * * * *

J804R Anchorage, AK, to FRIED [Amended]
Waypoint name | Location | Reference facility
Anchorage, AK | 61°10′04″ N. 149°57′37″ W. | Anchorage, AK.
NOWEL | 60°29′02″ N. 148°28′31″ W. | Middleton Island, AK.
Middleton Island, AK | 59°25′19″ N. 146°21′00″ W. | Middleton Island, AK.
SNOUT | 57°53′26″ N. 141°45′19″ W. | Yakutat, AK.
EEDEN | 55°53′59″ N. 137°00′06″ W. | Biorka Island, AK.
FRIED | 54°13′19″ N. 133°37′57″ W. | Annette Island, AK.

* * * * *

J-889R NOWEL to LAIRE [Amended]
Waypoint name | Location | Reference facility
NOWEL | 60°29′02″ N., 148°28′31″ W. | Anchorage, AK.
ARISE | 60°00′00″ N., 146°09′13″ W. | Middleton Island, AK.
KONKS | 59°33′02″ N., 144°00′07″ W. | Middleton Island, AK.
LAIRE | 58°48′15″ N., 140°31′43″ W. | Yakutat, AK.

* * * * *

Paragraph 2006 Alaska area navigation routes (Q-routes).

* * * * *

Q-8 GAL to TED [Amended]

GAL VORTAC

(Lat. 64°44′17″ N., long. 156°46′38″ W.)

TED VOR/DME

(Lat. 61°10′04″ N., long. 149°57′37″ W.)

* * * * *

Q-43 TED to FAI [Amended]

TED VOR/DME

(Lat. 61°10′04″ N., long. 149°57′37″ W.)

BGQ VORTAC

(Lat. 61°34′10″ N., long. 149°58′02″ W.)

FAI VORTAC

(Lat. 64°48′00″ N., long. 148°00′43″ W.)

Q-44 OME to TED [Amended]

OME VOR/DME

(Lat. 64°29′06″ N., long. 165°15′11″ W.)

TED VOR/DME

(Lat. 61°10′04″ N., long. 149°57′37″ W.)

Q-45 DLG to AMOTT [Amended]

DLG VOR/DME

(Lat. 58°59′39″ N., long. 158°33′08″ W.)

AMOTT Fix

(Lat. 60°52′27″ N., long. 151°22′24″ W.)

* * * * *

Q-47 AKN to AMOTT [Amended]

AKN VORTAC

(Lat. 58°43′29″ N., long. 156°45′08″ W.)

AMOTT Fix

(Lat. 60°52′27″ N., long. 151°22′24″ W.)

* * * * *

Q-49 ODK to AMOTT [Amended]

ODK VOR/DME

(Lat. 57°46′30″ N., long. 152°20′23″ W.)

AMOTT Fix

(Lat. 60°52′27″ N., long. 151°22′24″ W.)

Issued in Washington, DC, on February 28, 2011.
Edith V. Parish,
Manager, Airspace, Regulation and ATC Procedure Group.

[FR Doc. 2011-4937 Filed 3-3-11; 8:45 am]

BILLING CODE 4910-13-P